DEPARTMENT OF ENERGY

Environmental Management Site-Specific Advisory Board, Nevada

AGENCY: Office of Environmental Management, Department of Energy.

ACTION: Notice of open virtual meeting.

SUMMARY: This notice announces an online virtual meeting of the Environmental Management Site-Specific Advisory Board (EM SSAB), Nevada. The Federal Advisory Committee Act requires that public notice of this online virtual meeting be announced in the Federal Register.

DATES: Wednesday, November 10, 2021; 4:00 p.m.-7:00 p.m.

ADDRESSES: Online Virtual Meeting: To attend, please send an email to: nssab@emcbc.doe.gov by no later than 4:00 p.m. PT, on Monday, November 8, 2021.

FOR FURTHER INFORMATION CONTACT: Barbara Ulmer, Nevada Site Specific Advisory Board (NSSAB) Administrator, by Phone: (702) 523-0894; or Email: nssab@emcbc.doe.gov.

SUPPLEMENTARY INFORMATION: Purpose of the Board: The purpose of the Board is to make recommendations to DOE-EM and site management in the areas of environmental restoration, waste management, and related activities.

Tentative Agenda

1. Briefing on Corrective Action Unit 114, Area 25 Engine Maintenance, Assembly, and Disassembly (EMAD) Facility Disposal Options—Work Plan Item #3.

Public Participation: The online virtual meeting is open to the public. Written statements may be filed with the Board via email either before or after the meeting as there will not be opportunities for live public comment during this online virtual meeting. Public comments received by no later than 4:00 p.m. PT on Monday, November 8, 2021, will be read aloud during the virtual meeting. Comments will be accepted after the meeting, by no later than 4:00 p.m. PT on Friday, November 19, 2021. Please submit comments to nssab@emcbc.doe.gov. The Deputy Designated Federal Officer is empowered to conduct the meeting in a fashion that will facilitate the orderly conduct of business. Individual wishing to submit public comments should email them as directed above.

Minutes: Minutes will be available by writing or calling Barbara Ulmer, NSSAB Administrator, U.S. Department of Energy, EM Nevada Program, 100 North City Parkway, Suite 1750, Las Vegas, NV 89106; Phone: (702) 523-0894. Minutes will also be available at the following website: http://www.nnss.gov/nssab/pages/MM_FY22.html.

Signed in Washington, DC, on October 6, 2021.
LaTanya Butler,
Deputy Committee Management Officer.

[FR Doc. 2021-22141 Filed 10-8-21; 8:45 am]

BILLING CODE 6450-01-P